U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: C. Richard D'Amato, Chairman of the U.S.-China Economic and Security Review Commission.

The Commission is mandated by Congress to investigate and report to Congress annually on “the national security implications of the bilateral trade and economic relationship between the United States and the People's Republic of China.” Pursuant to this mandate, the Commission will be holding a public hearing in Seattle, Washington, October 14, 2004. The purpose of this hearing is to examine the impact of U.S.-China trade and investment on Pacific Northwest industries. The Commission will receive testimony from industry representatives, labor organizations, researchers and analysts of the aviation, aerospace, software, technology, agriculture, forest products and other key industries on: (1) How these industries have been affected by economic relations with China, and (2) how this may be indicative of broader trends for the U.S. economy. The Commission will also hear from witnesses on the economic development and other local effects on the region of trade and investment relations with China.

Background

This event is part of a series of field hearings the Commission is holding to collect input from local industry and labor leaders, government officials, researchers, other informed witnesses and the public on the impact of U.S.-China trade and economic relations. Information on upcoming field hearings, as well as transcripts of past Commission hearings, can be obtained from the USCC Web site at http://www.uscc.gov.

The Seattle, Washington hearing will be Co-chaired by Commissioner George Becker, Former International President of the United Steelworkers of America and AFL-CIO Vice President and Executive Council Member, and Commissioner Robert F. Ellsworth, Chairman and Founding Partner, Hamilton Apex Technology Ventures.

Purpose of Hearing

The hearing is designed to assist the Commission in fulfilling its mandate by exploring how U.S.-China trade and investment is impacting vital sectors of the U.S. economy. The Commission seeks to gain a better understanding of how Washington State and the aviation, technology, agriculture and other important regional industries have been impacted by U.S.-China economic relations. The Commission will also investigate how this is indicative of broader trends for the U.S. economy and the implications for U.S. economic and national security.

Copies of the hearing agenda will be made available on the Commission's Web site at http://www.uscc.gov. The hearing will be held in two sessions, one in the morning and one in the afternoon, where Commissioners will take testimony from invited witnesses.

Date and Time: Thursday, October 14, 2004, 8:45 a.m. to 5 p.m. Pacific Daylight Time inclusive. A detailed agenda for the hearing will be posted to the Commission's Web site at http://www.uscc.gov in the near future.

ADDRESSES: The hearing will be held at the Olympic Conference Room, 4th Floor, The Edgewater Hotel, Pier 67, 2411 Alaskan Way, Seattle, Washington. Garage parking is available across the street from the hotel at a daily rate of $7. Public seating is available on a first-come, first-served basis.

FOR FURTHER INFORMATION CONTACT: Any member of the public wishing further information concerning the hearing should contact Kathy Michels, Associate Director for the U.S.-China Economic and Security Review Commission, 444 North Capitol Street, NW., Suite 602, Washington, DC 20001; phone (202) 624-1409, or via e-mail at kmichels@uscc.gov.

Authority: The Commission was established in October 2000 pursuant to the Floyd D. Spence National Defense Authorization Act Section 1238, Public Law 106-398, 114 STAT. 1654A-334 (2000) (codified at 22 U.S.C. 7002 (2001), as amended, and the “Consolidated Appropriations Resolution of 2003,” Public Law 108-7 dated February 20, 2003.

Dated: September 30, 2004.
Kathleen J. Michels,
Associate Director, U.S.-China Economic and Security Review Commission.

[FR Doc. 04-22377 Filed 10-4-04; 8:45 am]

BILLING CODE 1137-00-P